DEPARTMENT OF THE INTERIOR

Geological Survey

[GX.13.CD00.B9510.00]

Agency Information Collection: Comment Request

AGENCY: United States Geological Survey (USGS), Interior.

ACTION: Notice of an extension of a currently approved information collection, 1028-0095.

SUMMARY: To comply with the Paperwork Reduction Act of 1995 (PRA), the U.S. Geological Survey (USGS) is inviting comments on an information collection request (ICR) that we have sent to the Office of Management and Budget (OMB) for review and approval. The ICR concerns the paperwork requirements for the National Institutes for Water Resources (NIWR) USGS Competitive Grant Program. As required by the Paperwork Reduction Act (PRA) of 1995, and as part of our continuing efforts to reduce paperwork and respondent burden, we invite the general public and other Federal agencies to take this opportunity to comment on this ICR. This collection is scheduled to expire on January 31, 2013.

DATES: Submit written comments by February 11, 2013.

ADDRESSES: Please submit comments on this information collection directly to the Office of Management and Budget (OMB), Office of Information and Regulatory Affairs, Attention: Desk Officer for the Department of the Interior via email: (OIRA_SUBMISSION@omb.eop.gov); or by fax (202) 395-5806; and identify your submission with #1028-0095. Please also submit a copy of your comments to Information Collection Clearance Officer, U.S. Geological Survey, 807 National Center, Reston, VA 20192 (mail); or smbaloch@usgs.gov (email). Please reference Information Collection 1028-0095.

FOR FURTHER INFORMATION CONTACT: Earl Greene, Acting Chief Office of External Research, U.S. Geological Survey, 5522 Research Park Drive, MS 436, Baltimore, Maryland 21228 (mail) at (443) 498-5505 (Phone); or eagreene@usgs.gov (email). You may find additional information about this information collection at www.reginfo.gov.

SUPPLEMENTARY INFORMATION: Title: National Institutes for Water Resources (NIWR) USGS Competitive Grant Program.

OMB Control Number: 1028-0095.

Abstract: The NIWR-USGS National Competitive Grant Program issues an annual call for proposals to support research on water problems and issues of a regional or interstate nature beyond those of concern only to a single state and which relate to specific program priorities identified jointly by the USGS and the state water resources research institutes authorized by the Water Resources Research Act of 1984, as amended (42 U.S.C. 10301 et seq.). The program is conducted in conjunction with the State Water Resources Research Institutes. The NIWR cooperates with the USGS in establishing total programmatic direction, reporting on the activities of the Institutes, coordinating and facilitating regional research and information and technology transfer, and in operating the NIWR-USGS Student Internship Program. Any investigator at an accredited institution of higher learning in the United States is eligible to apply for a grant through a water research institute or center established under the provisions of the Act. Proposals involving substantial collaboration between the USGS and university scientists are encouraged. Proposals may be for projects of 1 to 3 years in duration and may request up to $250,000 in federal funds. Successful applicants must match each dollar of the federal grant with one dollar from nonfederal sources. An annual progress and final technical report for all projects is required at the end of the project period. This program is authorized by the Water Resources Research Act of 1984, as amended (42 U.S.C. 10303(g)).

No questions of a “sensitive” nature are asked.

Frequency of Collection: Annually.

Affected Public: Research investigators at accredited institutions of higher education.

Respondent's Obligation: Voluntary (necessary to receive benefits).

Estimated Number of Respondents: We expect to receive approximately 65 applications and award 7 grants per year.

Estimated Annual Reporting and Recordkeeping “Hour” Burden: We estimate the annual reporting burden to be 3,984 hours. This includes 60 hours per applicant to prepare and submit the application; and 12 hours (total) per grantee to complete the interim and final technical reports.

Estimated Annual Reporting and Recordkeeping “Non-Hour Cost”: We have not identified any “non-hour cost” burdens associated with this collection of information.

Public Disclosure Statement: The PRA (44 U.S.C. 3501, et seq.) provides that an agency may not conduct or sponsor and you are not required to respond to a collection of information unless it displays a currently valid OMB control number.

Comments: To comply with the public consultation process, on August 28, 2012, we published a Federal Register notice (77 FR 52052) announcing that we would submit this ICR to OMB for approval. The notice provided the required 60-day public comment period, which ended October 29, 2012. In response to our Federal Register Notice, we received one comment, which consisted of a general invective about the U.S. Government and did not pertain to this information collection. We are again soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology. Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: December 27, 2012.
Earl Greene,
Acting Chief, Office of External Research, U.S. Geological Survey.

[FR Doc. 2013-00375 Filed 1-10-13; 8:45 am]

BILLING CODE 4311-AM-P